DEPARTMENT OF HEALTH AND HUMAN SERVICES

Substance Abuse and Mental Health Services Administration

The President's New Freedom Commission on Mental Health; Notice of Meeting

Pursuant to Executive Order 13263, notice is hereby given of a correction of a meeting of the President's New Freedom Commission on Mental Health to be held in April 2003.

Public notice was given in the Federal Register on March 18, 2003 (Volume 68, Number 52, page 12929) that the President's New Freedom Commission on Mental Health would be meeting on April 2, 2003 at the Westin Embassy Row, 2100 Massachusetts Avenue, NW., Washington, DC 20008. The date and time of this meeting has subsequently changed to April 3, 2003, 8:30 a.m. to 4 p.m. The agenda of the meeting and contact for additional information remain as announced.

Dated: March 18, 2003.
Toian Vaughn,
Committee Management Officer, Substance Abuse and Mental Health Services Administration.

[FR Doc. 03-6893 Filed 3-20-03; 8:45 am]

BILLING CODE 4162-20-P